U.S. INTERNATIONAL DEVELOPMENT FINANCE CORPORATION

[DFC-008]

Submission for OMB Review; Comments Request

AGENCY: U.S. International Development Finance Corporation (DFC).

ACTION: Notice of information collection; request for comment.

SUMMARY: Under the provisions of the Paperwork Reduction Act, agencies are required to publish a Notice in the Federal Register notifying the public that the agency is creating a new information collection for Office of Management and Budget (OMB) review and approval and requests public review and comment on the submission. Comments are being solicited on the need for the information; the accuracy of the burden estimate; the quality, practical utility, and clarity of the information to be collected; and ways to minimize reporting the burden, including automated collected techniques and uses of other forms of technology.

DATES: DFC intends to begin use of this collection on November 9, 2020. Comments must be received by September 8, 2020.

ADDRESSES: Comments and requests for copies of the subject information collection may be sent by any of the following methods:

• Mail: Joanna Reynolds, Agency Submitting Officer, U.S. International Development Finance Corporation, 1100 New York Avenue NW, Washington, DC 20527.

• Email: fedreg@dfc.gov.

Instructions: All submissions received must include the agency name and agency form number or OMB form number for this information collection. Electronic submissions must include the agency form number in the subject line to ensure proper routing. Please note that all written comments received in response to this notice will be considered public records.

FOR FURTHER INFORMATION CONTACT: Agency Submitting Officer: Joanna Reynolds (202) 357-3979.

SUPPLEMENTARY INFORMATION: This notice informs the public that DFC will submit to OMB a request for approval of the following information collection.

Summary Form Under Review

Title of Collection: Development Outcomes Survey (DOS).

Type of Review: New information collection.

Agency Form Number: DFC-008.

OMB Form Number: Not assigned, new information collection.

Frequency: Once per investor per project per year.

Affected Public: Business or other for-profit; not-for-profit institutions; individuals.

Total Estimated Number of Annual Number of Respondents: 800.

Estimated Time Per Respondent: 2.0 hours.

Total Estimated Number of Annual Burden Hours: 1600 hours.

Abstract: The Development Outcomes Survey (DOS) is the principal document used by the DFC to review and update a client's developmental impact profile and determine the project's compliance with environmental, labor, and economic policies, as consistent with DFC's authorizing legislation. It will be a comprehensive survey designed to track project performance as compared to their baseline data collected during the application process.

Dated: July 6, 2020.
Nichole Skoyles,
Administrative Counsel, Office of the General Counsel.

[FR Doc. 2020-14844 Filed 7-9-20; 8:45 am]

BILLING CODE 3210-02-P